DEPARTMENT OF TRANSPORTATION

Federal Aviation Administration

14 CFR Part 71

[Docket No. FAA-2008-0940; Airspace Docket No. 08-AAL-25]

RIN 2120-AA66

Removal and Modification of VOR Federal Airways; Alaska

AGENCY: Federal Aviation Administration (FAA), DOT.

ACTION: Final rule.

SUMMARY: This action removes Federal Airway V-328, and modifies three Federal Airways, V-319, V-333 and V-480, in Alaska. This action revises the Instrument Flight Rules (IFR) airway and route structure in Alaska to account for the pending decommissioning from the National Airspace System (NAS) of the Kipnuk Very High Omni-directional Range (VOR), at Kipnuk, AK. The FAA is taking this action to enhance safety and improve the management of air traffic operations in the State of Alaska.

DATES: Effective Date: 0901 UTC, August 27, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On December 10, 2008, the FAA published in the Federal Register a notice of proposed rulemaking (NPRM) to remove V-328 and modify V-319, V-333 and V-480 (73 FR 75013). Interested parties were invited to participate in this rulemaking effort by submitting written comments on this proposal. No comments were received in response to the NPRM.

VOR Federal Airways are published in paragraph 6010(b) of FAA Order 7400.9S, signed October 3, 2008, and effective October 31, 2008, which is incorporated by reference in 14 CFR 71.1. The VOR Federal Airways listed in this document will be published subsequently in the Order.

The Rule

The FAA is amending Title 14 Code of Federal Regulations (14 CFR part 71) by revoking one Federal Airway V-328, and modifying three Federal Airways, V-319, V-333, and V-480 in Alaska. The FAA is taking this action to remove all airways off the Kipnuk, Very High Omni-directional Range (VOR), Kipnuk, AK, in preparation for the VOR's eventual decommissioning from the National Airspace System (NAS). The Kipnuk VOR decommissioning proposal was publicly advertised in non-rulemaking notice numbers 02-AAL-31NR and 06-AAL-32NR. After reviewing public comment, the FAA decided that keeping or moving the Kipnuk VOR was not feasible and should be decommissioned. The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, “Environmental Impacts: Polices and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is amended as follows:

Paragraph 6010(b) Alaskan VOR Federal Airways.

* * * * *

V-319 [Revised]

From Yakutat, AK, via Johnstone Point, AK, INT Johnstone Point 286° and Anchorage, AK, 117° radials; Anchorage, AK; Sparrevohn, AK; Bethel, AK; Hooper Bay, AK; to Nanwak, AK NDB.

* * * * *

V-333 [Revised]

From Hooper Bay, AK; Nome, AK; to Shishmaref, AK.

* * * * *

V-328 [Removed]

* * * * *

V-480 [Revised]

From Mt. Moffett, AK, NDB, 20 AGL via St. Paul Island, AK, NDB, 20 AGL; Bethel, AK; McGrath, AK; Nenana, AK; to Fairbanks, AK.

* * * * *

Issued in Washington, DC, on June 26, 2009.
Edith V. Parish,
Manager, Airspace and Rules Group.

[FR Doc. E9-15694 Filed 7-2-09; 8:45 am]

BILLING CODE 4910-13-P